DEPARTMENT OF AGRICULTURE

Food and Nutrition Service

Agency Information Collection Activities: Supplemental Nutrition Assistance Program: State Agency Options for Standard Utility Allowances and Self-Employment Income

AGENCY: Food and Nutrition Service (FNS), USDA.

ACTION: Notice.

SUMMARY: In accordance with the Paperwork Reduction Act of 1995, this notice invites the general public and other public agencies to comment on this proposed information collection. This collection is a revision of a currently approved collection. This information collection addresses the State agency reporting burden associated with the following State agency options under the Supplemental Nutrition Assistance Program (SNAP): Establishing and reviewing standard utility allowances (SUAs) and establishing methodology for offsetting cost of producing self-employment income.

DATES: Written comments must be received on or before December 24, 2019.

ADDRESSES: The Food and Nutrition Service, USDA, invites interested persons to submit written comment.

• Preferred Method: Federal eRulemaking Portal. Go to http://www.regulations.gov, and follow the online instructions for submitting comments electronically.

• Mail: Send comments to Certification Policy Branch, Program Development Division, FNS, 3101 Park Center Drive, Alexandria, Virginia 22302.

All responses to this notice will be summarized and included in the request for Office of Management and Budget (OMB) approval. All comments will be a matter of public record.

FOR FURTHER INFORMATION CONTACT: Requests for additional information or copies of this information collection should be directed to the Certification Policy Branch, Program Development Division, FNS, 3101 Park Center Drive, Alexandria, Virginia 22302 or via email to SNAPCPBRules@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program: State Agency Options for Standard Utility Allowances and Self-Employment Income.

Form Number: None.

OMB Number: 0584-0496.

Expiration Date: March 31, 2020.

Type of Request: Revision of a currently approved collection.

Abstract: The information collection addresses the mandatory State agency information and burden estimates associated with the following State agency options under SNAP: Establishing and reviewing SUAs and establishing methodology for offsetting cost of producing self-employment income.

SNAP regulations at 7 CFR 273.9(d)(6)(iii) allow State agencies to establish SUAs in place of the actual utility costs incurred by a household. State agencies are required to review and adjust SUAs annually to reflect changes in the costs of utilities. States must provide the amounts of the standards to FNS when they have changed, and submit methodologies used in developing and updating standards to FNS for approval when the methodologies are updated or changed.

SNAP regulations at 7 CFR 273.11(b) allow for self-employment income to be reduced by the cost of producing such income. The regulations allow the State agencies, with approval from FNS, to establish the methodology for offsetting the costs of producing self-employment income, as long as the procedure does not increase program costs. Most State agencies provide methodology information on written letterhead and typically submit it via email. Once approved by FNS, States can use these methodologies to determine net self-employment income for SNAP eligibility purposes.

This notice invites comments on the revisions made to the State Agency Options information collection for SNAP to reflect changes in the number of States electing to establish a methodology for offsetting the costs of producing self-employment income. Based on information provided in the Fourteenth Edition of the SNAP State Options Report, published on May 31, 2018, FNS proposes increasing this figure from 21 State agencies to 23 State agencies since the previous information collection renewal.

Using FNS-388 and 388A (approved under OMB Control Number 0584-0594; expiration date: 09/30/2019 (currently going through OMB approval process).), States send aggregate level data on participation, benefits issued, and other basic program information to FNS using the Food Programs Reporting System (FPRS) at https://fprs.fns.usda.gov. This collection uses information submitted in these FNS approved forms as supplemental data. However, this collection is not seeking approval for burden hours associated with the use of these forms because the burden is already accounted for under OMB Control Number 0584-0594.

FNS is currently in the process of conducting a limited number of consultations with State agencies and FNS staff regarding the accuracy of the burden estimates in this information collection, including the validity of the methodology and assumptions that were used to estimate the burden. The inputs from those consultations will be considered, along with the public comments received in response to this notice, as FNS finalizes the burden estimate to be included in the request for OMB for approval.

Affected Public: The respondent group identified includes 53 State agencies.

Estimated Number of Respondents: The total estimated number of respondents is 53.

Estimated Number of Responses per Respondent: FNS estimates 53 State agencies will submit one request each to adjust the SUA. Based on the information provided in the Fourteenth Edition of the SNAP State Options Report, out of the 53 State agencies, 23 State agencies have incorporated a methodology for determining the cost of doing business in self-employment cases. It is estimated that these 23 States will submit one request each, totaling 23 annual responses related to establishing a methodology for offsetting cost of producing self-employment income. All 53 State agencies are required to keep and maintain one record of the information gathered and submitted to FNS for the SUA and self-employment options. Therefore, it is estimated that each respondent will be responsible for 2.4340 responses.

Estimated Total Annual Responses: 129.

Estimated Time per Response: 5.9395 (hours).

Estimated Total Annual Burden on Respondents: 766.1957 (hours). See table below for estimated total annual burden for State agencies.

CFR citation | Respondent | Estimated number of respondents | Responses annually per respondent | Total annual responses | Estimated average number of hours per response | Estimated total hours
Reporting Burden
7 CFR 273.9(d)(6)(iii) | State Agency—Review of SUA Submissions | 53 | 1 | 53 | 10 | 530
7 CFR 273.11(b) | State Agency—Review of Self-Employment Methodology | 23 | 1 | 23 | 10 | 230
| Total Reporting Burden | 53 |  | 76 |  | 760
Recordkeeping Burden
| State Agency | 53 | 1 | 53 | 0.1169 | 6.1957
| Total Recordkeeping Burden | 53 |  | 53 |  | 6.1957
Total of Reporting and Recordkeeping Burden
| Total | 53 |  | 129 |  | 766.1957

Dated: October 7, 2019.
Pamilyn Miller,
Administrator, Food and Nutrition Service.

[FR Doc. 2019-23217 Filed 10-24-19; 8:45 am]

BILLING CODE 3410-30-P